DEPARTMENT OF DEFENSE

Office of the Secretary

Revised Non-Foreign Overseas per Diem Rates

AGENCY: Defense Travel Management Office, DoD.

ACTION: Notice of revised non-foreign overseas per diem rates.

SUMMARY: The Defense Travel Management Office is publishing Civilian Personnel Per Diem Bulletin Number 306. This bulletin lists revisions in the per diem rates prescribed for U.S. Government employees for official travel in Alaska, Hawaii, Puerto Rico, the Northern Mariana Islands and Possessions of the United States when applicable. Actual Expense Allowance changes announced in Bulletin Number 194 remain in effect. Bulletin Number 306 is being published in the Federal Register to assure that travelers are paid per diem at the most current rates.

DATES: The revised per diem rates go into effect August 1, 2017.

FOR FURTHER INFORMATION CONTACT: Ms. Sonia Malik, 571-372-1276.

SUPPLEMENTARY INFORMATION: This document gives notice of revisions in per diem rates prescribed by the Defense Travel Management Office for non-foreign areas outside the contiguous United States. Per Diem Bulletins published periodically in the Federal Register now constitute the only notification of revisions in per diem rates to agencies and establishments outside the Department of Defense. For more information or questions about per diem rates, please contact your local travel office. Civilian Bulletin 306 includes updated rates for Hawaii, Midway Islands, and the Northern Mariana Islands.

Dated: July 26, 2017.
Aaron Siegel,
Alternate OSD Federal Register Liaison Officer, Department of Defense.

Maximum Per Diem Rates for Official Travel in Alaska, Hawaii, the Commonwealths of Puerto Rico and the Northern Islands and Possessions of the United States by Federal Government Civilian Employees
Locality | Maximum lodging amount |  | Meals and incidentals rate |  | Maximum per diem rate | Effective date
| (A) | + | (B) | = | (C)
ALASKA:
[OTHER]:
01/01-12/31 | 120 |  | 88 |  | 208 | 03/01/2017
ADAK:
10/01-04/30 | 150 |  | 60 |  | 210 | 03/01/2017
05/01-09/30 | 192 |  | 60 |  | 252 | 03/01/2017
ANCHORAGE [INCL NAV RES]:
05/16-09/30 | 229 |  | 94 |  | 323 | 03/01/2017
10/01-05/15 | 199 |  | 94 |  | 293 | 03/01/2017
BARROW:
05/01-09/30 | 238 |  | 89 |  | 327 | 03/01/2017
10/01-04/30 | 205 |  | 89 |  | 294 | 03/01/2017
BARTER ISLAND LRRS:
01/01-12/31 | 120 |  | 88 |  | 208 | 03/01/2017
BETHEL:
01/01-12/31 | 219 |  | 108 |  | 327 | 03/01/2017
BETTLES:
01/01-12/31 | 175 |  | 70 |  | 245 | 03/01/2017
CAPE LISBURNE LRRS:
01/01-12/31 | 120 |  | 88 |  | 208 | 03/01/2017
CAPE NEWENHAM LRRS:
01/01-12/31 | 120 |  | 88 |  | 208 | 03/01/2017
CAPE ROMANZOF LRRS:
01/01-12/31 | 120 |  | 88 |  | 208 | 03/01/2017
CLEAR AB:
01/01-12/31 | 120 |  | 88 |  | 208 | 03/01/2017
COLD BAY LRRS:
01/01-12/31 | 120 |  | 88 |  | 208 | 03/01/2017
COLDFOOT:
01/01-12/31 | 165 |  | 70 |  | 235 | 10/01/2006
COPPER CENTER:
05/15-09/15 | 169 |  | 84 |  | 253 | 03/01/2017
09/16-05/14 | 97 |  | 84 |  | 181 | 03/01/2017
CORDOVA:
01/01-12/31 | 140 |  | 111 |  | 251 | 03/01/2017
CRAIG:
04/01-09/30 | 254 |  | 78 |  | 332 | 03/01/2017
10/01-03/31 | 90 |  | 78 |  | 168 | 03/01/2017
DEADHORSE:
01/01-12/31 | 170 |  | 51 |  | 221 | 03/01/2016
DELTA JUNCTION:
05/01-09/30 | 169 |  | 78 |  | 247 | 03/01/2017
10/01-04/30 | 139 |  | 78 |  | 217 | 03/01/2017
DENALI NATIONAL PARK:
06/01-08/31 | 185 |  | 86 |  | 271 | 03/01/2017
09/01-05/31 | 139 |  | 86 |  | 225 | 03/01/2017
DILLINGHAM:
10/02-05/14 | 220 |  | 85 |  | 305 | 03/01/2017
05/15-10/01 | 350 |  | 85 |  | 435 | 03/01/2017
DUTCH HARBOR-UNALASKA:
01/01-12/31 | 142 |  | 101 |  | 243 | 03/01/2017
EARECKSON AIR STATION:
01/01-12/31 | 146 |  | 74 |  | 220 | 07/01/2016
EIELSON AFB:
05/15-09/15 | 154 |  | 90 |  | 244 | 03/01/2017
09/16-05/14 | 75 |  | 90 |  | 165 | 03/01/2017
ELFIN COVE:
01/01-12/31 | 275 |  | 86 |  | 361 | 03/01/2017
ELMENDORF AFB:
05/16-09/30 | 229 |  | 94 |  | 323 | 03/01/2017
10/01-05/15 | 199 |  | 94 |  | 293 | 03/01/2017
FAIRBANKS:
05/15-09/15 | 154 |  | 90 |  | 244 | 03/01/2017
09/16-05/14 | 75 |  | 90 |  | 165 | 03/01/2017
FOOTLOOSE:
01/01-12/31 | 175 |  | 18 |  | 193 | 10/01/2002
FORT YUKON LRRS:
01/01-12/31 | 120 |  | 88 |  | 208 | 03/01/2017
FT. GREELY:
10/01-04/30 | 139 |  | 78 |  | 217 | 03/01/2017
05/01-09/30 | 169 |  | 78 |  | 247 | 03/01/2017
FT. RICHARDSON:
05/16-09/30 | 229 |  | 94 |  | 323 | 03/01/2017
10/01-05/15 | 199 |  | 94 |  | 293 | 03/01/2017
FT. WAINWRIGHT:
05/15-09/15 | 154 |  | 90 |  | 244 | 03/01/2017
09/16-05/14 | 75 |  | 90 |  | 165 | 03/01/2017
GAMBELL:
01/01-12/31 | 133 |  | 51 |  | 184 | 03/01/2016
GLENNALLEN:
05/15-09/15 | 169 |  | 84 |  | 253 | 03/01/2017
09/16-05/14 | 97 |  | 84 |  | 181 | 03/01/2017
HAINES:
01/01-12/31 | 107 |  | 101 |  | 208 | 01/01/2011
HEALY:
09/01-05/31 | 139 |  | 86 |  | 225 | 03/01/2017
06/01-08/31 | 185 |  | 86 |  | 271 | 03/01/2017
HOMER:
05/01-09/30 | 200 |  | 70 |  | 270 | 03/01/2017
10/01-04/30 | 160 |  | 70 |  | 230 | 03/01/2017
JB ELMENDORF-RICHARDSON:
05/16-09/30 | 229 |  | 94 |  | 323 | 03/01/2017
10/01-05/15 | 199 |  | 94 |  | 293 | 03/01/2017
JUNEAU:
05/01-09/15 | 189 |  | 106 |  | 295 | 03/01/2017
09/16-04/30 | 169 |  | 106 |  | 275 | 03/01/2017
KAKTOVIK:
01/01-12/31 | 165 |  | 86 |  | 251 | 10/01/2002
KAVIK CAMP:
01/01-12/31 | 250 |  | 51 |  | 301 | 03/01/2016
KENAI-SOLDOTNA:
05/01-09/30 | 179 |  | 103 |  | 282 | 03/01/2017
10/01-04/30 | 99 |  | 103 |  | 202 | 03/01/2017
KENNICOTT:
01/01-12/31 | 295 |  | 89 |  | 384 | 03/01/2017
KETCHIKAN:
05/01-09/01 | 243 |  | 96 |  | 339 | 03/01/2017
09/02-04/30 | 220 |  | 96 |  | 316 | 03/01/2017
KING SALMON:
05/01-10/01 | 225 |  | 91 |  | 316 | 10/01/2002
10/02-04/30 | 125 |  | 81 |  | 206 | 10/01/2002
KING SALMON LRRS:
01/01-12/31 | 120 |  | 88 |  | 208 | 03/01/2017
KLAWOCK:
04/01-09/30 | 254 |  | 78 |  | 332 | 03/01/2017
10/01-03/31 | 90 |  | 78 |  | 168 | 03/01/2017
KODIAK:
05/01-09/30 | 180 |  | 90 |  | 270 | 03/01/2017
10/01-04/30 | 152 |  | 90 |  | 242 | 03/01/2017
KOTZEBUE:
01/01-12/31 | 299 |  | 98 |  | 397 | 03/01/2017
KULIS AGS:
05/16-09/30 | 229 |  | 94 |  | 323 | 03/01/2017
10/01-05/15 | 199 |  | 94 |  | 293 | 03/01/2017
MCCARTHY:
01/01-12/31 | 295 |  | 89 |  | 384 | 03/01/2017
MCGRATH:
01/01-12/31 | 160 |  | 75 |  | 235 | 03/01/2017
MURPHY DOME:
05/15-09/15 | 154 |  | 90 |  | 244 | 03/01/2017
09/16-05/14 | 75 |  | 90 |  | 165 | 03/01/2017
NOME:
05/01-09/30 | 185 |  | 96 |  | 281 | 03/01/2017
10/01-04/30 | 165 |  | 96 |  | 261 | 03/01/2017
NOSC ANCHORAGE:
05/16-09/30 | 229 |  | 94 |  | 323 | 03/01/2017
10/01-05/15 | 199 |  | 94 |  | 293 | 03/01/2017
NUIQSUT:
01/01-12/31 | 234 |  | 51 |  | 285 | 03/01/2016
OLIKTOK LRRS:
01/01-12/31 | 120 |  | 88 |  | 208 | 03/01/2017
PETERSBURG:
01/01-12/31 | 120 |  | 88 |  | 208 | 03/01/2017
POINT BARROW LRRS:
01/01-12/31 | 120 |  | 88 |  | 208 | 03/01/2017
POINT HOPE:
01/01-12/31 | 175 |  | 81 |  | 256 | 03/01/2017
POINT LAY:
01/01-12/31 | 295 |  | 51 |  | 346 | 03/01/2017
POINT LAY LRRS:
01/01-12/31 | 295 |  | 51 |  | 346 | 03/01/2017
POINT LONELY LRRS:
01/01-12/31 | 120 |  | 88 |  | 208 | 03/01/2017
PORT ALEXANDER:
01/01-09/30 | 165 |  | 51 |  | 206 | 03/01/2017
10/01-12/31 | 155 |  | 51 |  | 206 | 03/01/2017
PORT ALSWORTH:
01/01-12/31 | 135 |  | 88 |  | 233 | 10/01/2002
PRUDHOE BAY:
01/01-12/31 | 170 |  | 51 |  | 221 | 03/01/2016
SELDOVIA:
05/01-09/30 | 200 |  | 70 |  | 270 | 03/01/2017
10/01-04/30 | 160 |  | 70 |  | 230 | 03/01/2017
SEWARD:
10/01-04/30 | 159 |  | 85 |  | 244 | 03/01/2017
05/01-0930 | 279 |  | 85 |  | 364 | 03/01/2017
SITKA-MT. EDGECUMBE:
01/01-12/31 | 200 |  | 98 |  | 298 | 03/01/2016
SKAGWAY:
05/01-09/01 | 243 |  | 96 |  | 339 | 03/01/2017
09/02-04/30 | 220 |  | 96 |  | 316 | 03/01/2017
SLANA:
05/01-09/30 | 139 |  | >55 |  | 194 | 02/01/2005
10/01-04/30 | 99 |  | 55 |  | 154 | 02/01/2005
SPARREVOHN LRRS:
01/01-12/31 | 120 |  | 88 |  | 208 | 03/01/2017
SPRUCE CAPE:
05/01-09/30 | 180 |  | 90 |  | 270 | 03/01/2017
10/01-04/30 | 152 |  | 90 |  | 242 | 03/01/2017
ST. GEORGE:
01/01-12/31 | 220 |  | 51 |  | 271 | 03/01/2016
TALKEETNA:
01/01-12/31 | 100 |  | 89 |  | 189 | 10/01/2002
TANANA:
05/01-09/30 | 185 |  | 96 |  | 281 | 03/01/2017
10/01-04/30 | 165 |  | 96 |  | 261 | 03/01/2017
TATALINA LRRS:
01/01-12/31 | 120 |  | 88 |  | 208 | 03/01/2017
TIN CITY LRRS:
01/01-12/31 | 120 |  | 88 |  | 208 | 03/01/2017
TOK:
01/01-12/31 | 99 |  | 97 |  | 196 | 03/01/2017
VALDEZ:
05/01-09/09 | 185 |  | 110 |  | 295 | 03/01/2017
09/10-04/30 | 127 |  | 110 |  | 237 | 03/01/2017
WAINWRIGHT:
01/01-12/31 | 175 |  | 83 |  | 258 | 01/01/2011
WAKE ISLAND DIVERT AIRFIELD:
01/01-12/31 | 120 |  | 88 |  | 208 | 03/01/2017
WASILLA:
05/01-09/30 | 170 |  | 89 |  | 259 | 03/01/2017
10/01-04/30 | 90 |  | 89 |  | 179 | 03/01/2017
WRANGELL:
09/02-04/30 | 220 |  | 96 |  | 316 | 03/01/2017
05/01-09/01 | 243 |  | 96 |  | 339 | 03/01/2017
YAKUTAT:
01/01-12/31 | 105 |  | 94 |  | 199 | 01/01/2011
AMERICAN SAMOA:
AMERICAN SAMOA:
01/01-12/31 | 139 |  | 69 |  | 208 | 06/01/2015
PAGO PAGO:
01/01-12/31 | 139 |  | 69 |  | 208 | 12/01/2015
GUAM:
GUAM (INCL ALL MIL INSTAL):
01/01-12/31 | 159 |  | 87 |  | 246 | 07/01/2015
JOINT REGION MARIANAS (ANDERSEN):
01/01-12/31 | 159 |  | 87 |  | 246 | 07/01/2015
JOINT REGION MARIANAS (NAVAL BASE):
01/01-12/31 | 159 |  | 87 |  | 246 | 07/01/2015
TAMUNING:
01/01-12/31 | 159 |  | 87 |  | 246 | 12/01/2015
HAWAII:
[OTHER]:
01/01-12/31 | 199 |  | 117 |  | 316 | 08/01/2017
CAMP H M SMITH:
01/01-12/31 | 177 |  | 138 |  | 315 | 08/01/2017
EASTPAC NAVAL COMP TELE AREA:
01/01-12/31 | 177 |  | 138 |  | 315 | 08/01/2017
FT. DERUSSEY:
01/01-12/31 | 177 |  | 138 |  | 315 | 08/01/2017
FT. SHAFTER:
01/01-12/31 | 177 |  | 138 |  | 315 | 08/01/2017
HICKAM AFB:
01/01-12/31 | 177 |  | 138 |  | 315 | 08/01/2017
HILO:
01/01-12/31 | 199 |  | 177 |  | 316 | 08/01/2017
HONOLULU:
01/01-12/31 | 177 |  | 138 |  | 315 | 08/01/2017
ISLE OF HAWAII: HILO
01/01-12/31 | 199 |  | 117 |  | 316 | 08/01/2017
ISLE OF HAWAII: OTHER:
03/24-12/17 | 189 |  | 161 |  | 350 | 08/01/2017
12/18-03/25 | 239 |  | 161 |  | 400 | 08/01/2017
ISLE OF KAUAI:
01/01-12/31 | 325 |  | 135 |  | 460 | 04/01/2016
ISLE OF MAUI:
01/01-12/31 | 269 |  | 160 |  | 429 | 08/01/2017
ISLE OF OAHU:
01/01-12/31 | 177 |  | 138 |  | 315 | 08/01/2017
JB PEARL HARBOR-HICKAM:
01/01-12/31 | 177 |  | 138 |  | 315 | 08/01/2017
KAPOLEI:
01/01-12/31 | 177 |  | 138 |  | 315 | 08/01/2017
KEKAHA PACIFIC MISSILE RANGE FAC:
01/01-12/31 | 325 |  | 135 |  | 460 | 04/01/2016
KILAUEA MILITARY CAMP:
01/01-12/31 | 199 |  | 117 |  | 316 | 08/01/2017
LANAI:
01/01-12/31 | 254 |  | 111 |  | 365 | 08/01/2017
LIHUE:
01/01-12/31 | 325 |  | 135 |  | 460 | 04/01/2016
LUALUALEI NAVAL MAGAZINE:
01/01-12/31 | 177 |  | 138 |  | 315 | 08/01/2017
MCB HAWAII:
01/01-12/31 | 177 |  | 138 |  | 315 | 08/01/2017
MOLOKAI:
01/01-12/31 | 176 |  | 115 |  | 291 | 08/01/2017
NOSC PEARL HARBOR:
01/01-12/31 | 177 |  | 138 |  | 315 | 08/01/2017
PEARL HARBOR:
01/01-12/31 | 177 |  | 138 |  | 315 | 08/01/2017
PMRF BARKING SANDS:
01/01-12/31 | 325 |  | 135 |  | 460 | 10/01/2016
SCHOFIELD BARRACKS:
01/01-12/31 | 177 |  | 138 |  | 315 | 08/01/2017
TRIPLER ARMY MEDICAL CENTER:
01/01-12/31 | 177 |  | 138 |  | 315 | 08/01/2017
WAHIAWA NCTAMS PAC:
01/01-12/31 | 177 |  | 138 |  | 315 | 08/01/2017
WHEELER ARMY AIRFIELD:
01/01-12/31 | 177 |  | 138 |  | 315 | 08/01/2017
MIDWAY ISLANDS:
MIDWAY ISLANDS:
01/01-12/31 | 125 |  | 81 |  | 206 | 08/01/2017
NORTHERN MARIANA ISLANDS:
[OTHER]:
01/01-12/31 | 69 |  | 84 |  | 153 | 08/01/2017
ROTA:
01/01-12/31 | 130 |  | 107 |  | 237 | 07/01/2015
SAIPAN:
01/01-12/31 | 161 |  | 101 |  | 262 | 08/01/2017
TINIAN:
01/01- 12/31 | 69 |  | 84 |  | 153 | 08/01/2017
PUERTO RICO:
[OTHER]:
01/01-12/31 | 109 |  | 112 |  | 221 | 06/01/2012
AGUADILLA:
01/01-12/31 | 171 |  | 84 |  | 255 | 11/01/2015
BAYAMON:
06/01-11/30 | 167 |  | 88 |  | 255 | 12/01/2015
12/01-05/31 | 195 |  | 88 |  | 283 | 12/01/2015
CAROLINA:
06/01-11/30 | 167 |  | 88 |  | 255 | 12/01/2015
12/01-05/31 | 195 |  | 88 |  | 283 | 12/01/2015
CEIBA:
01/01-12/31 | 139 |  | 92 |  | 231 | 10/01/2012
CULEBRA:
01/01-12/31 | 150 |  | 98 |  | 248 | 03/01/2012
FAJARDO [INCL ROOSEVELT RDS NAVSTAT]:
01/01-12/31 | 139 |  | 92 |  | 231 | 10/01/2012
FT. BUCHANAN [INCL GSA SVC CTR, GUAYNABO]:
06/01-11/30 | 167 |  | 88 |  | 255 | 12/01/2015
12/01-05/31 | 195 |  | 88 |  | 283 | 12/01/2015
HUMACAO:
01/01-12/31 | 139 |  | 92 |  | 231 | 10/01/2012
LUIS MUNOZ MARIN IAP AGS:
06/01-11/30 | 167 |  | 88 |  | 255 | 12/01/2015
12/01-05/31 | 195 |  | 88 |  | 283 | 12/01/2015
LUQUILLO:
01/01-12/31 | 139 |  | 92 |  | 231 | 10/01/2012
MAYAGUEZ:
01/01-12/31 | 109 |  | 112 |  | 221 | 09/01/2010
PONCE:
01/01-12/31 | 149 |  | 89 |  | 238 | 09/01/2012
RIO GRANDE:
01/01-12/31 | 169 |  | 123 |  | 292 | 06/01/2012
SABANA SECA [INCL ALL MILITARY]:
06/01-11/30 | 167 |  | 88 |  | 255 | 12/01/2015
12/01-05/31 | 195 |  | 88 |  | 283 | 12/01/2015
SAN JUAN & NAV RES STA:
12/01-05/31 | 195 |  | 88 |  | 283 | 12/01/2015
06/01-11/30 | 167 |  | 88 |  | 255 | 12/01/2015
VIEQUES:
01/01-12/31 | 175 |  | 95 |  | 270 | 03/01/2012
VIRGIN ISLANDS (U.S.):
ST. CROIX:
04/15-12/14 | 247 |  | 110 |  | 357 | 06/01/2015
12/15-04/14 | 299 |  | 116 |  | 415 | 06/01/2015
ST. JOHN:
05/01-12/03 | 170 |  | 107 |  | 277 | 08/01/2015
12/04-04/30 | 230 |  | 113 |  | 343 | 08/01/2015
ST. THOMAS:
04/15-12/15 | 249 |  | 110 |  | 359 | 03/01/2017
12/16-04/14 | 339 |  | 110 |  | 449 | 03/01/2017
WAKE ISLAND:
WAKE ISLAND:
01/01-12/31 | 129 |  | 70 |  | 199 | 07/01/2016

[FR Doc. 2017-16043 Filed 7-28-17; 8:45 am]

BILLING CODE 5001-06-P